DEPARTMENT OF AGRICULTURE

Economic Research Service

Notice of Intent To Request New Information Collection

AGENCY: Economic Research Service, USDA.

ACTION: Notice and request for comments.

SUMMARY: In accordance with the Paperwork Reduction Act of 1995, this notice invites the general public and other public agencies to send comments regarding any aspect of this proposed information collection. This is a new collection for a generic clearance that will allow the Economic Research Service to conduct a variety of quantitative data collections.

DATES: Written comments on this notice must be received on or before January 31, 2012 to be assured of consideration.

ADDRESSES: Address all comments concerning this notice to Nathaniel Higgins, Resource and Rural Economics Division, Economic Research Service, U.S. Department of Agriculture, 355 E St. SW., Room 6S-18, Washington, DC 20472. Comments may also be submitted via fax to the attention of Nathaniel Higgins at (202) 694-5602 or via email to nhiggins@ers.usda.gov. Comments will also be accepted through the Federal eRulemaking Portal. Go to http://www.regulations.gov, and follow the online instructions for submitting comments electronically.

FOR FURTHER INFORMATION CONTACT: For further information contact Nathaniel Higgins at the address in the preamble. Tel. (202) 694-5602.

SUPPLEMENTARY INFORMATION: All written comments will be open for public inspection at the office of the Economic Research Service during regular business hours (8:30 a.m. to 5 p.m., Monday through Friday) at 355 E St. SW., Room 6S-18, Washington, DC 20472.

All responses to this notice will be summarized and included in the request for Office of Management and Budget approval. All comments and replies will be a matter of public record. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Title: Formative Data Collections for Informing Policy Research.

OMB Number: 0536-XXXX.

Expiration Date: Three years from the date of approval.

Type of Request: New collection.

Abstract: The anticipated generic clearance will authorize research in furtherance of an ongoing initiative to use insights from behavioral economics to provide economic intelligence, research, and analysis to inform agricultural resource and conservation policies, including those related to development of markets and incentives for environmental services, reduced greenhouse gas emissions and renewable energy production, and to improve food choices and weight outcomes, particularly among children and low income adults.

The specific purpose of this generic clearance is to allow ERS to develop and implement state-of-the-art research methodologies to evaluate policies for its customers in response to both specific requests and in anticipation of future need. This generic clearance will be particularly useful when ERS is tasked with evaluating prospective policies.

ERS envisions using a number of research techniques, as appropriate to the individual investigation. These include laboratory and field techniques, exploratory interviews, pilot experiments, and respondent debriefing. In all cases, participation will be voluntary and time commitments will be minimal (10-90 minutes). Laboratory and field techniques are two methodologies based on comparison of outcomes over groups that have been randomized into different treatments.

Information obtained from randomized comparison studies (lab and field techniques) will be used to develop and calibrate models of behavior. ERS uses behavioral models to estimate a variety of policy outcomes, for instance the level of farmer participation in voluntary conservation programs under alternative contract terms or changes in the nutritional quality of meals chosen when healthy items are displayed more prominently. Variation in behavioral response can have important implications for performance measures such as economic efficiency and effectiveness, and can help predict unintended consequences of policy-design options. Improved models of behavior will help policymakers and program managers as they face decisions that affect agriculture, nutrition and the environment.

Authority: These data will be collected under the authority of 7 U.S.C. 2204(a) and sec. 501 of the Rural Development Act of 1972 (7 U.S.C. 2661). Individually identifiable data collected under this authority are governed by 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320. ERS also complies with OMB Implementation Guidance, “Implementation Guidance for Title V of the E-Government Act, Confidential Information Protection and Statistical Efficiency Act of 2002 (CIPSEA)”, 72 FR 33362, June 15, 2007.

Affected Public: Respondents will include Individuals and households.

Estimated Number of Respondents and Respondent Burden

The proposed generic clearance will enable a number of separate data collections. No data collection is estimated to take longer than 90 minutes per respondent, including the time required for respondents and non-respondents to review instructions and participate in the data collection.

The estimated number of respondents participating in data collections under this generic clearance over a three year period is 1,800. The maximum total estimated response burden for all of those participating in the study is 2,300 hours.

Dated: November 9, 2011.
Mary Bohman,
Acting Administrator, Economic Research Service.

[FR Doc. 2011-30969 Filed 12-1-11; 8:45 am]

BILLING CODE 3410-18-P